ENVIRONMENTAL PROTECTION AGENCY

40 CFR Part 52

[EPA-R09-OAR-2025-0303; FRL-12838-01-R9]

Air Plan Approval; Arizona; Maricopa County Air Quality Department; Petroleum Solvent Dry Cleaning

AGENCY: Environmental Protection Agency (EPA).

ACTION: Proposed rule.

SUMMARY: The Environmental Protection Agency (EPA) is proposing to approve a revision to the Maricopa County Air Quality Department (MCAQD) portion of the Arizona State Implementation Plan (SIP). This revision clarifies definitions used in a rule that limits volatile organic compounds (VOCs) emissions from petroleum solvents used in dry cleaning. We are proposing to approve the rule revisions under the Clean Air Act (CAA or “Act”). We are taking comments on this proposal and plan to follow with a final action.

DATES: Comments must be received on or before September 22, 2025.

ADDRESSES: Submit your comments, identified by Docket ID No. EPA-R09-OAR-2025-0303 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: La Kenya Evans-Hopper, EPA Region IX, 75 Hawthorne St., San Francisco, CA 94105; telephone number: (415) 972-3245; email address: evanshopper.lakenya@epa.gov.

SUPPLEMENTARY INFORMATION: Throughout this document, “we,” “us,” and “our” refer to the EPA.

Table of Contents

I. The State's Submittal

A. What rule did the State submit?

B. Are there other versions of this rule?

C. What is the purpose of the submitted rule revision?

II. The EPA's Evaluation and Action

A. How is the EPA evaluating the rule revisions?

B. Do the rule revisions meet the evaluation criteria?

C. Proposed Action and Public Comment

III. Incorporation by Reference

IV. Statutory and Executive Order Reviews

I. The State's Submittal

A. What rule did the State submit?

In April 2016, the EPA analyzed Maricopa County's SIP-approved rules to determine if any outdated rules could potentially be replaced by newer provisions that are currently only locally applicable. The analysis resulted in recommendations for updating the Arizona SIP by rescinding obsolete two- and three-digit rules either with, or without, replacement. On September 13, 2017, the Arizona Department of Environmental Quality (ADEQ) submitted to the EPA requests from MCAQD to act on a series of rules, including the rescission of various local rules (“2017 SIP Submittal”). Table 1 lists the rule addressed by this proposal with the dates that it was adopted by the local air agency and submitted to the EPA by ADEQ.

Table 1—Submitted Rule
Local agency | Rule No. | Rule title | Revised | Submitted
MCAQD | 333 | Petroleum Solvent Dry Cleaning | 09/25/2013 | 09/13/2017

On March 13, 2018, the 2017 SIP submittal was deemed by operation of law to be complete. We have reviewed the submittal to ensure it meets the completeness criteria in 40 CFR part 51, appendix V.

B. Are there other versions of this rule?

On February 9, 1998 (63 FR 6489), we approved an earlier version of MCAQD Rule 333, “Petroluem Solvent Dry Cleaning,” (“Rule 333”), as revised on June 19, 1996, into the SIP. MCAQD adopted revisions to the SIP-approved version of Rule 333 on September 25, 2013, and ADEQ submitted them to us on September 13, 2017. In its submittal letter, ADEQ requested that, upon approval of the revised version of Rule 333, the EPA remove the old version of this rule from the SIP. If we finalize this rulemaking as proposed, the September 25, 2013 version of Rule 333 will replace the previously approved version of this rule in the SIP.

C. What is the purpose of the submitted rule revision?

In 2016, the EPA reformatted the Arizona SIP as codified in the Code of Federal Regulations (CFR) into a tabulated “notebook” format. While developing the updated SIP tables for that conversion, the EPA worked closely with ADEQ and the local air agencies to clarify what was in their applicable SIP, including older provisions that had not been updated or replaced to reflect local rulemakings. The result of that coordination was that MCAQD requested to rescind or replace many obsolete rules in their federally enforceable SIP in favor of rules that reflect their current locally enforceable rulebook.

MCAQD Rule 333 regulates the emissions of VOCs from petroleum solvents used in dry cleaning and at dry cleaning facilities. Emissions of VOCs contribute to the production of ground-level ozone and smog that harm human health and the environment. Section 110(a) of the CAA requires states to submit regulations that control VOC emissions. MCAQD Rule 333 was revised to clarify that the definitions in MCAQD Rule 100 ¹ are applicable to revised MCAQD Rule 333. This includes the definition of VOC that was removed from MCAQD Rule 333 and added to MCAQD Rule 100.

¹ MDAQD Rule 100, “General Provisions and Definitions,” revised August 9, 2023, SIP-approved April 4, 2024 (89 FR 23521).

The EPA's technical support document (TSD) has more information about this rule.

II. The EPA's Evaluation and Action

A. How is the EPA evaluating the rule revisions?

Under the provisions of CAA section 110(l), SIP revisions must not interfere with attainment, reasonable further progress (RFP), or any other applicable requirement of the CAA. Therefore, we evaluated whether the revisions to Rule 333 would comply with CAA section 110(l).

Guidance and policy documents that we used to evaluate revision and/or relaxation requirements for the applicable criteria pollutants include the following:

1. “State Implementation Plans; General Preamble for the Implementation of Title I of the Clean Air Act Amendments of 1990,” 57 FR 13498 (April 16, 1992); 57 FR 18070 (April 28, 1992).

B. Do the rule revisions meet the evaluation criteria?

We evaluated the rule revisions to ensure they meet CAA requirements and are consistent with relevant guidance regarding SIP revisions. Based on our review, the revisions meet the relevant requirements and would strengthen the overall SIP by ensuring a consistent definition for VOC is being implemented in the MCAQD portion of the Arizona SIP. The revisions do not relax any requirements. The TSD has more information on our evaluation.

C. Proposed Action and Public Comment

As authorized in section 110(k)(3) of the Act, the EPA proposes to approve the submitted rule because it fulfills all relevant requirements. We will accept comments from the public on this proposal until September 22, 2025. If we take final action to approve the submitted rule, our final action will incorporate this rule into the federally enforceable SIP.

III. Incorporation by Reference

In this document, the EPA is proposing to include in a final EPA rule regulatory text that includes incorporation by reference. In accordance with requirements of 1 CFR 51.5, the EPA is proposing to incorporate by reference Maricopa County Air Quality Department Rule 333, Petroleum Solvent Dry Cleaning, revised on September 25, 2013, which regulates VOC emissions from petroleum solvents used in dry cleaning. The EPA has made, and will continue to make, these materials available through https://www.regulations.gov and at the EPA Region IX Office (please contact the person identified in the FOR FURTHER INFORMATION CONTACT section of this preamble for more information).

IV. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this proposed action merely proposes to approve state law as meeting federal requirements and does not impose additional requirements beyond those imposed by state law. For that reason, this proposed action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Nitrogen dioxide, Ozone, Reporting and recordkeeping requirements, Volatile organic compounds.

Dated: August 7, 2025.
Joshua F.W. Cook,
Regional Administrator, Region IX.

[FR Doc. 2025-15984 Filed 8-20-25; 8:45 am]

BILLING CODE 6560-50-P